GENERAL ACCOUNTING OFFICE

Federal Accounting Standards Advisory Board

AGENCY: General Accounting Office.

ACTION: Notice of meeting on June 8 and 9, 2000.

Board Action: Pursuant to the Federal Advisory Committee Act (Pub. L. 92-463), as amended, and the FASAB Rules of Procedure, as amended in October 1999, notice is hereby given that the Federal Accounting Standards Advisory Board (FASAB) will meet on Thursday, June 8 from 9 a.m. to 4 p.m., and Friday, June 9, 2000 from 9 a.m. to 4 p.m. in room 7C13, the Elmer Staats Briefing Room, 441 G St. NW, Washington, DC.

The purpose of the meeting is to:

Review a draft exposure draft on Stewardship Responsibilities,

Discuss Stewardship PP&E and review a draft exposure draft,

Discuss National Defense PP&E, and

Discuss other topics as necessary.

A Steering Committee meeting of the Board's Principal Board members will be held immediately after the Board meeting on Friday. Topics to be discussed include:

Action Plan for Transition Effort (Status report and review) and

Auditing and Accounting Policy Committee (AAPC) Charter and Operating Procedures (review and approval).

Any interested person may attend the meeting as an observer. Board discussion and reviews are open to the public.

FOR FURTHER INFORMATION CONTACT: Wendy Comes, Executive Director, 441 G St. NW, Room 6814, Washington, DC 20548, or call (202) 512-7350.

Authority: Federal Advisory Committee Act. Pub. L. 92-463.

Dated: May 12, 2000.
Wendy M. Comes,
Executive Director.

[FR Doc. 00-12433 Filed 5-16-00; 8:45 am]

BILLING CODE 1610-01-M